SMALL BUSINESS ADMINISTRATION

[Disaster Declaration #20732 and #20733; FLORIDA Disaster Number FL-20014]

Presidential Declaration Amendment of a Major Disaster for Public Assistance Only for the State of Florida

AGENCY: U.S. Small Business Administration.

ACTION: Amendment 2.

SUMMARY: This is an amendment of the Presidential declaration of a major disaster for Public Assistance Only for the State of Florida (FEMA-4828-DR), dated 10/05/2024.

Incident: Hurricane Helene.

Incident Period: 09/23/2024 and continuing.

DATES: Issued on 10/13/2024.

Physical Loan Application Deadline Date: 12/04/2024.

Economic Injury (EIDL) Loan Application Deadline Date: 07/07/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of Florida, dated 10/05/2024, is hereby amended to include the following areas as adversely affected by the disaster.

Primary Counties: Baker, Nassau, Putnam.

All other information in the original declaration remains unchanged.

(Catalog of Federal Domestic Assistance Number 59008)

Rafaela Monchek
Deputy Associate Administrator, Office of Disaster Recovery & Resilience.

[FR Doc. 2024-24175 Filed 10-17-24; 8:45 am]

BILLING CODE 8026-09-P